DEPARTMENT OF AGRICULTURE

Office of the Secretary

7 CFR Part 2

RIN 0560-AH51

Revisions of Delegations of Authority

AGENCY: Office of the Secretary, Department of Agriculture (USDA).

ACTION: Final rule.

SUMMARY: USDA amends the delegations of authority from the Secretary of Agriculture to the Under Secretary for Farm and Foreign Agricultural Services and to the Administrator, Farm Service Agency, for technical assistance determinations for the Conservation Reserve Program.

DATES: This rule is effective June 21, 2006.

FOR FURTHER INFORMATION CONTACT: Robert Stephenson, Director, Conservation and Environmental Programs Division, Farm Service Agency, USDA/FSA/STOP 0513, 1400 Independence Avenue, SW., Washington, DC 20250-0513, (202) 720-6221.

SUPPLEMENTARY INFORMATION: The Secretary of Agriculture previously delegated authority under the Food Security Act of 1985, as amended (16 U.S.C. 1231 et seq.), for the Conservation Reserve Program (CRP) to the Under Secretary for Farm and Foreign Agricultural Services (FFAS) under the regulations at 7 CFR 2.16(a)(1)(xviii), and the Under Secretary, FFAS, delegated authority to the Administrator, Farm Service Agency (FSA), under the regulations at 7 CFR 2.42(a)(20).

Authority was also delegated for the administration of technical assistance for the Conservation Reserve Program to the Under Secretary for Natural Resources and the Environment (NRE) under the regulations at 7 CFR 2.20(a)(2)(xx) and 2.20(a)(3)(xiii)(B). The Under Secretary, NRE, delegated authority for the administration of technical assistance for the Conservation Reserve Program to the Chief, Forest Service, under the regulations at 7 CFR 2.60(a)(20) and to the Chief, Natural Resources Conservation Service, under the regulations at 7 CFR 2.61(a)(13)(ii).

This rule delegates from the Secretary, to the Under Secretary, FFAS, and from the Under Secretary, FFAS, to the Administrator, FSA, the authority to implement technical assistance with respect to the Conservation Reserve Program.

The delegations of authority from the Secretary to the Under Secretary, NRE, and from the Under Secretary, NRE, to the Chief, Forest Service, and to the Chief, Natural Resources Conservation Service, are not changed by this rule.

This rule relates to internal agency management. Therefore, pursuant to 5 U.S.C. 553, notice of proposed rulemaking and opportunity for comment are not required, and this rule may be made effective less than 30 days after publication in the Federal Register. Further, because this rule relates to internal agency management, it is exempt from the provisions of Executive Order Nos. 12291 and 12866. Finally, this action is not a rule as defined by the Regulatory Flexibility Act, Public Law 96-354 et seq., and is therefore exempt from the provisions of that Act.

List of Subjects in 7 CFR Part 2

Administrative practice and procedure, Authority delegations—Government agencies.

Accordingly, Title 7 of the Code of Federal Regulations is amended as follows:

PART 2—DELEGATIONS OF AUTHORITY BY THE SECRETARY OF AGRICULTURE AND GENERAL OFFICERS OF THE DEPARTMENT

1. The authority citation for 7 CFR part 2 continues to read as follows:

Authority: 7 U.S.C. 6912(a)(1); 5 U.S.C. 301; Reorganization Plan No. 2 of 1953; 3 CFR 1949-1953 Comp., p. 1024.

Subpart C—Delegations of Authority to the Deputy Secretary and to the Under Secretaries and Assistant Secretaries

2. In § 2.16, paragraph (a)(1)(xviii) is revised to read as follows:

§ 2.16 Under Secretary for Farm and Foreign Agricultural Services.

* * * * *

(a) * * *

(1) * * *

(xviii) Formulate and carry out the Conservation Reserve Program, including the implementation of technical assistance, under the Food Security Act of 1985, as amended (16 U.S.C. 1231 et seq.).

* * * * *

3. In § 2.42, paragraph (a)(20) is revised read as follows:

§ 2.42 Administrator, Farm Service Agency.

* * * * *

(a) * * *

(20) Formulate and carry out the Conservation Reserve Program, including the implementation of technical assistance, under the Food Security Act of 1985, as amended (16 U.S.C. 1232 et seq.).

* * * * *

For Part 2, Subpart C, Paragraph 2.16(a)(1)(xviii):
Dated: June 14, 2006.
Michael Johanns,
Secretary of Agriculture.
For Part 2, Subpart C, Paragraph 2.42(a)(20):
Dated: June 13, 2006.
J.B. Penn,
Under Secretary for Farm and Foreign Agricultural Services.

[FR Doc. E6-9614 Filed 6-20-06; 8:45 am]

BILLING CODE 3410-01-P